DEPARTMENT OF HEALTH AND HUMAN SERVICES

National Institutes of Health

Proposed Collection; Comment Request; Web-Survey of the State-of-the-Science (SOTS) Web Site

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management Budget (OMB) for review and approval.

Proposed Collection

Title: Web-Survey of the State of the Science Web Site.

Type of Information Collection Request: New.

Need and Use of Information Collection: The NCI seeks to evaluate its State-of-the-Science (SOTS) meetings project that offers audio-visual presentation of SOTS meetings via the Internet. The SOTS disseminates, with expediency and immediacy, the most recent oncology research results to a potentially vast audience of researchers. The proposed data collection will provide feedback to NCI on the value of the Web site to those who NCI deem as the Web site's target population (i.e., clinical oncology researchers unable to attend SOTS meetings in person because of cost or time limitations). The first tier of respondents will consist of researchers who have attended any one of the three most recent State of the Science meetings. The tier one survey participants will be asked to provide the names, emails, and any other contact information for five colleagues who are clinical research oncologists. These oncologists will be asked only once to provide the names and contact information for colleagues. The second tier of respondents will consist of the clinical oncology researchers nominated by the first tier respondents. It is the second tier respondents who will be asked to go to the Web site and complete the Web survey. They are asked to do this only once. Other tier two respondents will be oncology fellows who current and full contact information is available in a national register of oncology fellows. Reports generated by the study will allow NCI to determine the success of the SOTS Web site (in terms of clarity of content, ease of navigation, and usefulness of information), and indirectly, the potential wider use and applications of Internet-based programs to improve the overall cancer clinical trials systems at NCI.

Frequency of Response: One time.

Affected Public: Individuals, researchers.

Type of respondents | Estimated No. respondents | Estimated No. responses per respondent | Average burden hours per response | Estimated total annual burden hours requested
Tier One Clinical Oncology Researchers | 220 | 1 | 0.0833 | 19
Tier Two Clinical Oncology Researchers | 400 | 1 | 0.25 | 100
Total |  |  |  | 119

There are no Capital Costs, Operating Costs and/or Maintenance Costs to reports.

Request for Comments

Written comments and/or suggestions from the public and affected agencies should address one or more of the following points: (1) Whether the proposed collection of information is necessary for the proper performance of the function of the agency, including whether the information will have practical utility; (2) the accuracy of the agency's estimate of the burden of the proposed collection of information, including the validity of the methodology and assumptions used; (3) the quality, utility, and clarity of the information to be collected; and (4) ways to minimize the burden of the collection of information on those who are to respond, including the use of appropriate automated, electronic, mechanical, or other technological collection techniques or other forms of information technology.

Comments due date

Comments regarding this information collection are best assured of having their full effect if received on or before August 13, 2001.

FOR FURTHER INFORMATION CONTACT: To request more information on the proposed project or to obtain a copy of the data collection plans and instruments, contact: Bryce Reeve, Ph.D., National Cancer Institute, Executive Plaza North, Room 4026, 6130 Executive Boulevard, Rockville, MD, 20852, non-toll free telephone (301) 594-6574, or email: reeveb@mail.nih.gov, or br117c@nih.gov.

Dated: June 5, 2001.
Reesa Nichols,
OMB Clearance Liaison.

[FR Doc. 01-14778 Filed 6-11-01; 8:45 am]

BILLING CODE 4140-01-M